DEPARTMENT OF AGRICULTURE

Forest Service

Hidden Cedar Project, ID; Panhandle National Forests, Shoshone County, ID

AGENCY: Forest Service, USDA.

ACTION: Notice of intent to prepare an environmental impact statement.

SUMMARY: The St. Joe Ranger District of the Idaho Panhandle National Forest is considering vegetation, watershed restoration, and access management activities in the Hidden Cedar Project. The project area is located approximately 26 miles south of the town of St. Maries on the St. Maries River.

The proposed action was designed to meet the primary objectives listed below. The interdisciplinary team reviewed the Natural Resource Agenda, the Interior Columbia Basin Ecosystem Management Project, the Idaho Panhandle Forest Plan, and the St. Joe Geographic Assessment. Using these documents and information specific to the project area, the interdisciplinary team completed an Ecosystem Analysis at the Watershed Scale for the Hidden Cedar Project Area (located in the project file) to document resource conditions and note where activities were needed to improve them. The following needs for the Hidden Cedar area were derived from the Ecosystem Analysis: (1) Improve soil conditions; (2) Reduce sedimentation from past activities, which have caused streambank instability, channel erosion and increased sedimentation; (3) Provide or improve wildlife security; (4) Reduce the impacts of existing roads such as influences on hydrologic properties, fish migration barriers (culverts), while providing adequate and appropriate access for management, recreation and adjacent landowners; (5) Move vegetation toward historical conditions in terms of species composition and size where feasible and acceptable to other resources, and (5) Reduce fuel build-up where it poses a risk to human uses in the project area.

DATE: Comments should be postmarked by April 15, 2000. Please include your name and address and the name of the project on which you are commenting.

ADDRESSES: For your comments to be most useful, they should be as specific as possible to the project area and the Proposed Action.

Submit written comments and suggestions on the proposed management activities or request to be places on project mailing list to: George M. Bain, District Ranger, St. Joe Ranger District, PO Box 407, St. Maries, ID 83861. Forest Supervisor, Idaho Panhandle National Forests, 3815 Schreiber Way, Coeur d'Alene, ID 83814 is the Responsible Official.

FOR FURTHER INFORMATION CONTACT: Cameo Flood, Project Team Leader, St. Joe Ranger District, (208) 245-4517.

Comments received in response to this solicitation, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Persons requesting such confidentiality may be granted in only very limited circumstances, such as to protect trade secrets. The Forest Service will inform the requester of the agency's decision regarding the request for confidentiality, and where the request is denied, the agency will return the submission and notify the requester that the comments may be resubmitted with or without name and address within 10 days.

SUPPLEMENTARY INFORMATION: Vegetation management under this proposal is designed to meet several needs, including providing timber products to local markets, protecting and enhancing wildlife habitat needs, providing for long term growth and yield as directed in the Idaho Panhandle National Forest Plan, increasing fire resiliency, reducing fire hazards, and moving the vegetation to the conditions the area historically had in terms of tree species composition and density.

Treatments include approximately 1768 acres of commercial timber harvesting including commercial thinning, shelterwood preparation and seed cuttings, group shelterwoods, irregular group shelterwoods, and clearcuts with reserves.

Stream Channel and Fish Habitat Restoration

The NEPA analysis will consider possible riparian road relocation and/or obliteration in the proposed action or alternatives. Segments of Roads 498 (Hidden Creek), 341 (Wood Creek) and 3340 (Mazie Creek) have been identified for possible relocation or obliteration that could be included in the analysis. An unnamed drainage north of the Clarkia Work Center also contains several riparian and/or other primitive roads that could be put into long term storage or obliterated. Other unclassified roads throughout the project area will be evaluated if they should be placed on the Forest Development Road (FDR) system or if additional treatment is needed such as decompaction, revegetation, culvert removal or some degree of recontouring.

As a minimum, for the proposed action, the following Forest Development Roads will be managed as unrestricted routes, available for all motorized vehicle use: East Elk Road 1451 (Staples Creek), from SH3 to Road 1491; Christmas Creek Road 3321, from County Road to the end of road; Anthony Peak Road 1486, from the County Road to Road 3685; Bluebell Road 3685, from Road 1486 to the “four way saddle;” Cats Spur Road 361, from Road 1486 to Road 1450; Log Creek Road 1450, from Road 361 to Road 1480; Keeler Connection Road 764, from SH3 to Read 765A; County Line Road 765A, from Road 765 to SH3; Hidden Creek Road 498, from Road 765 to the “forks of Hidden Cr”; Wood Creek Road 341, from SH3 to Road 3340; Clarkia Emerald Creek Road 504, from SH3 to Road 447; Bechtel Mountain Road 3478, from Road 504 to the top of Bechtel Mountain; Anthony Peak Road 1486, segment I, from the County Road to Road 3685; Anthony Peak Road 1486, segment III, from Road 3685 to Road 3686; Bluebell Road 3685, from Road 1486 to Road 3685C; and Bobcat Road 3554, from Road 1450 to Road 3554A.

These roads are in addition to the general public access provided by State Highway 3 and other landowners in the area.

Access Management

Approximately 9.7 miles of road construction would be needed to access timber harvesting units.

Adjacent landowners (Potlatch Corporation and the Idaho Department of Lands) have indicated that in the near future, they will be requesting access across National Forest System Lands in the project area to reach their lands. The federal government is required to allow reasonable access the adjacent lands after the appropriate analysis and consultation. The amount of additional road access (new road construction) associated with these access requests is estimated at between two and five miles.

Preliminary Issues

We expect issues and concerns with this project to include the impacts on wildlife, fish, water quality, and recreation, as well as road construction, clearcutting and economic feasibility. Issues will be developed and analyzed based on public comment and the interdisciplinary team's analysis of effects on resources. Alternatives will be developed to modify or eliminate the impacts from proposed activities and still meet the purpose for this project.

Additionally, some of the vegetation treatment may result in opening of over 60 acres, which requires a 60 day comment period. While we would like comments that would affect alternatives early, comments on the size of openings and their effects should be received by May 15, 2000.

The draft environmental impact statement is expected to be filed with the Environmental Protection Agency (EPA) and available for public review in September 2000. The final environmental impact statement is expected to be completed in February 2001.

The comment period on the draft environmental impact statement will be 45 days from the date the Environmental Protection Agency publishes the notice of availability in the Federal Register,

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concern on the proposed action, comments on the draft environmental impact statement should be as specific as possible. It also helpful if comments refer to specific pages of chapters of the draft statement. Comments may also address the adequacy of the draft environmental impact statement or the merits of the alternatives formulated and discussed in the statement. Reviews may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center ad (202) 720-2600 (voice and TDD).

To file a complaint, write the Secretary of Agriculture, U.S. Department of Agriculture, Washington, DC 20250, or call 1-800-245-6340 (voice) or 202-720-1127 (TDD). USDA is an equal employment opportunity employer.

Dated: March 6, 2000.
George Bain,
St. Joe District Ranger.

[FR Doc. 00-7017 Filed 3-21-00; 8:45 am]

BILLING CODE 3410-11-M